DEPARTMENT OF ENERGY

Federal Energy Regulatory Commission

[Docket No. EC05-86-000, et al.]

La Paloma Generating Company, LLC, et al.; Electric Rate and Corporate Filings

May 31, 2005.

The following filings have been made with the Commission. The filings are listed in ascending order within each docket classification.

1. La Paloma Generating Company, LLC; La Paloma Holding Company, LLC; and La Paloma Acquisition Co, LLC

[Docket No. EC05-86-000]

Take notice that on May 24, 2005, La Paloma Generating Company, LLC (Genco), La Paloma Holding Company, LLC (La Paloma Holding), and La Paloma Acquisition Co, LLC (La Paloma Acquisition Co) (collectively, Applicants) submitted an application pursuant to section 203 of the Federal Power Act for authorization of a disposition of jurisdictional facilities, whereby La Paloma Holding proposes to transfer to La Paloma Acquisition Co one-hundred percent of the membership interests in Genco, which owns and operates an approximately 1,022 MW combined cycle generating facility in the California Independent System Operator (CAISO) market, and certain related rights and assets. Genco states that the sale of the membership interests in Genco from La Paloma Holding to La Paloma Acquisition Co will constitute the indirect disposition of certain jurisdictional facilities and assets held by Genco, including a market-based rate wholesale power sales tariff on file with the Commission, certain interconnection facilities associated with the generating facility, and related FPA jurisdictional accounts, books and records. Genco also states that the Applicants seek expedited review of the application and request confidential treatment of certain documents submitted therewith.

Applicants state that a copy of the application was served upon the California Public Utilities Commission.

Comment Date: 5 p.m. June 14, 2005.

2. EME Homer City Generation L.P., Metropolitan Life Insurance Company, General Electric Capital Corporation

[Docket No. EC05-87-000]

Take notice that on May 24, 2005, EME Homer City Generation L.P., (EME Homer City) Metropolitan Life Insurance Company (MetLife) and General Electric Capital Corporation (GECG) filed with the Commission an application pursuant to section 203 of the Federal Power Act for authorization of an indirect disposition of jurisdictional facilities whereby interests in a passive, non-power-selling lessor of the Homer City generating station in Pennsylvania will be transferred by GECG or an affiliate to MetLife or an affiliate.

Comment Date: 5 p.m. June 14, 2005.

3. PJM Interconnection L.L.C.

[Docket Nos. ER04-742-005 and EL04-105-003]

Take notice that on May 24, 2005, PJM Interconnection, L.L.C. (PJM) submitted revisions to the PJM Open Access Transmission Tariff (PJM Tariff) and the Amended and Restated Operating Agreement of PJM Interconnection, L.L.C. (Operating Agreement) in compliance with the Commission's May 9, 2005 order in Docket Nos. EL04-742-004 and ER04-105-002, 111 FERC ¶ 61,187 (May 9 Order), concerning the allocation of auction revenue rights and financial transmission rights. PJM states that the submitted revisions reflect an effective date of March 8, 2005, consistent with the effective date previously established in this proceeding.

PJM states that copies of this filing were served upon all persons on the service list in these dockets, as well as all PJM members, and each state electric utility regulatory commission in the PJM region. PJM also states that the requested waiver of the Commission's posting requirements to permit electronic service on the PJM members and state commissions.

Comment Date: 5 p.m. on June 14, 2005.

4. Black Hills Power, Inc.

[Docket No. ER05-924-001]

Take notice that on May 24, 2005, Black Hills Power, Inc. (Black Hills Power), submitted an amendment to its April 29, 2005 filing in ER05-924-000.

Comment Date: 5 p.m. on June 14, 2005.

5. El Paso Electric Company

[Docket No. ES05-30-000]

Take notice that on May 25, 2005, El Paso Electric Company (El Paso) submitted an application pursuant to section 204 of the Federal Power Act seeking authorization to undertake certain transactions and assume obligations associated with the refinancing of pollution control bonds (PCBs) issued for the benefit of El Paso.

El Paso also requests a waiver from the Commission's competitive bidding and negotiated placement requirements at 18 CFR 34.2.

Comment Date: 5 p.m. Eastern Time on June 17, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive email notification when a document is added to a subscribed docket(s). For assistance with any FERC Online service, please email FERCOnlineSupport@ferc.gov or call (866) 208-3676 (toll free). For TYY, call (202) 502-8659.

Linda Mitry,
Deputy Secretary.

[FR Doc. E5-2883 Filed 6-6-05; 8:45 am]

BILLING CODE 6717-01-P